ENVIRONMENTAL PROTECTION AGENCY

[EPA-HQ-SFUND-2005-0008; FRL-9582-01-OMS]

Information Collection Request Submitted to OMB for Review and Approval; Comment Request; Emergency Planning and Release Notification Requirements (EPCRA Sections 302, 303, and 304) (Renewal)

AGENCY: Environmental Protection Agency (EPA).

ACTION: Notice.

SUMMARY: The Environmental Protection Agency (EPA) has submitted an information collection request (ICR), Emergency Planning and Release Notification Requirements (EPA ICR Number 1395.11, OMB Control Number 2050-0092) to the Office of Management and Budget (OMB) for review and approval in accordance with the Paperwork Reduction Act. This is a proposed extension of the ICR, which is currently approved through April 30, 2022. Public comments were previously requested via the Federal Register on August 18, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before March 18, 2022.

ADDRESSES: Submit your comments, referencing Docket ID No. EPA-HQ-SFUND-2005-0008, online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Wendy Hoffman, Regulations Implementation Division, Office of Emergency Management, (5104A), Environmental Protection Agency, 1200 Pennsylvania Ave. NW, Washington, DC 20460; telephone number: (202) 564-8794; email address: hoffman.wendy@epa.gov.

SUPPLEMENTARY INFORMATION: Supporting documents, which explain in detail the information that EPA will be collecting, are available in the public docket for this ICR. The docket can be viewed online at http://www.regulations.gov. For further information about the EPA's public docket, Docket Center services and the current status, please visit us online at https://www.epa.gov/dockets. The telephone number for the Docket Center is 202-566-1744.

Abstract: The authority for the emergency planning and emergency release notification requirements is sections 302, 303, and 304 of the Emergency Planning and Community Right-to-Know Act (EPCRA) of 1986 (42 U.S.C. 11002, 11003, and 11004). EPCRA established broad emergency planning and facility reporting requirements. Section 302 requires facilities to notify their State Emergency Response Commission (SERC) or Tribal Emergency Response Commission (TERC), Local Emergency Planning Committee (LEPC) or Tribal Emergency Planning Committee (TEPC) with jurisdiction over their facility, of the presence of a threshold planning quantity of a listed extremely hazardous substance (EHS) at the facility. This activity was completed by existing facilities soon after the law was passed. Only new facilities that may become subject to these requirements must notify the SERC (or TERC) and the LEPC (or TEPC). Currently covered facilities are required to notify the LEPC (or TEPC) of any changes that occur at the facility that would be relevant to emergency planning. Section 303 requires the LEPC (or TEPC) to prepare local emergency response plans for their planning district using the information provided by facilities under Section 302. An LEPC (or TEPC) may request any information from facilities necessary to develop emergency response plans. Initial emergency response plans were developed within a few months after the law was passed. LEPCs (or TEPCs) are required to review and update the plan at least annually or more frequently as changes occur in the community. Section 304 requires facilities to report to SERCs (or TERCs) and LEPCs (or TEPCs) releases in excess of the reportable quantities listed for each EHS. This ICR also covers the notification and the written follow-up required under Section 304. The implementing regulations are codified in 40 CFR part 355.

Form Numbers: None.

Respondents/affected entities: Entities potentially affected by this action are those that have a threshold planning quantity of an EHS listed in 40 CFR part 355, appendix A and those that have a release of any EHS above a reportable quantity. Entities more likely to be affected by this action may include chemical manufacturers, retailers, petroleum refineries, utilities, etc.

Respondent's obligation to respond: Mandatory (Sections 302, 303 and 304 of EPCRA).

Estimated number of respondents: 98,052. This figure includes 3,052 LEPCs (or TEPCs) and SERCs (or TERCs).

Frequency of response: EPCRA section 302 reporting is a one-time notification unless there are changes to the reported information; EPCRA section 304 notification happens only when a release occurs from a facility.

Total estimated burden: 226,261 hours (per year) (includes LEPCs (or TEPCs) and SERCs (or TERCs)). Burden is defined at 5 CFR 1320.03(b).

Total estimated cost: 10,851,328 (per year), including $8,470 in annual operations and maintenance (O&M) costs. There are no capital costs associated with this ICR.

Changes in estimates: The reduction in burden of approximately 22 percent for activities related to section 304 reporting requirements for facilities is attributable to a decrease in the number of release notifications reported to the National Response Center for the previous three years (reduced from 10,000 to 7,420), which EPA assumes will apply to the upcoming three years of this ICR renewal. The reduction in state and local government burden estimate of approximately 15,607 hours annually, is attributable to the reduction in the numbers of SERCs (or TERCs) and LEPCs (or TEPCs) in this ICR compared to the previous ICR (new total of 3,052 reduced from 3,556). In addition, EPA corrected a few minor calculation errors.

Courtney Kerwin,
Director, Regulatory Support Division.

[FR Doc. 2022-03376 Filed 2-15-22; 8:45 am]

BILLING CODE 6560-50-P